DEPARTMENT OF THE INTERIOR

Bureau of Land Management

[OR-027-1110-JM-H2KO; G-06-HAG-0139]

Notice of Availability of a Final Environmental Impact Statement for the North Steens Ecosystem Restoration Project

AGENCY: Bureau of Land Management, Interior.

ACTION: Notice of Availability.

SUMMARY: In accordance with the National Environmental Policy Act of 1969, the Federal Land Policy and Management Act of 1976, and the Steens Mountain Cooperative Management and Protection Act (Steens Act) of 2000, the Bureau of Land Management (BLM) has prepared an Environmental Impact Statement (EIS) to analyze potential effects of implementing the North Steens Ecosystem Restoration Project (North Steens Project). The proposed project area lies within the Andrews Management Unit (AMU) and the Steens Mountain Cooperative Management and Protection Area (CMPA), designated October 30, 2000 by Act of Congress. The North Steens Project is located in Harney County, Oregon, and affects approximately 336,000 acres of public and private lands.

DATES: The Final EIS will be available for a 30-day period of availability with the publishing of the Environmental Protection Agency's Notice of Availability in the Federal Register.

FOR FURTHER INFORMATION CONTACT: North Steens Project EIS Lead, BLM, Burns District Office, 28910 Hwy 20 West, Hines, Oregon 97738; (541) 573-4543; Fax (541) 573-4411; or e-mail (ornseis@blm.gov).

SUPPLEMENTARY INFORMATION: The North Steens Project is a proposed landscape-level project utilizing a combination of western juniper treatments (mechanical and nonmechanical methods) and wildland (prescribed and natural) fire to treat fuels and to restore sagebrush/steppe habitat. Implementation of the project would reduce the increasing adverse influence of western juniper in mountain big sagebrush, low sagebrush, quaking aspen, mountain mahogany, old growth juniper (over 120 years old), and riparian plant communities.

Section 113(c) of the Steens Act states, “The Secretary shall emphasize the restoration of the historic fire regime in the Cooperative Management and Protection Area and the resulting native vegetation communities through active management of western juniper on a landscape level. Management measures shall include the use of natural and prescribed burning.”

The Resource Management Plans for the CMPA and AMU contain overall direction and guidance for proposed management actions such as those analyzed in the North Steens Project EIS. Management actions analyzed include seeding of native species, reduction of western juniper (less than 120 yrs old), fencing, and management of wildland fire. Preliminary issues and management concerns were identified by BLM personnel and through public scoping. Major issues addressed in the EIS include management of woodlands, rangeland vegetation, Steens Mountain Wilderness, Wilderness Study Areas (WSAs), Wild and Scenic River corridors, wildlife habitat, special status species, wildland fire/fuels, recreation, cultural resources, noxious weeds, water quality/aquatic resources/fisheries, biological soil crusts, and social and economic values. The EIS also considered American Indian traditional practices. An interdisciplinary approach was used to develop the Final EIS.

Government agencies having specific expertise or interests in the project were invited to participate as cooperating agencies. The public and interest groups have been provided opportunities to participate during formal comment periods and during Steens Mountain Advisory Council meetings.

The Final EIS evaluates six alternative management approaches including a No Action Alternative. A Preferred Alternative is proposed in the Final EIS. The three features of the Preferred Alternative are: (1) The Full Treatment Alternative would be implemented in all portions of the project area including WSAs, but excluding Steens Mountain Wilderness; (2) The Continuation of Current Management Alternative would be selected for the Steens Mountain Wilderness; (3) Future proposals in Steens Mountain Wilderness would be in conformance with the Steens Act and the Wilderness Act.

Copies of the Final EIS have been sent to affected Federal, State, Tribal and local government agencies and to interested parties. The Final EIS is available for public inspection at the BLM Burns District Office in Hines, Oregon, during regular business hours (7:45 a.m. to 4:30 p.m., Monday through Friday, except holidays). Comments received from the public and internal BLM review comments on the Draft EIS were incorporated into the Final EIS, where appropriate.

Public input during scoping as well as internal scoping identified at least 20 issues for analysis in the EIS. These issues are outlined in Chapter 1 of the Final EIS.

Opportunities for public involvement to date in the process have included two separate public scoping periods, a 45-day comment period on the Draft EIS which included two public meetings. In addition, the Steens Mountain Advisory Council has participated in the process and made a specific recommendation which supports the Preferred Alternative.

Public comments on the Draft EIS received during the 45-day comment period were reviewed by BLM specialists and cooperating agencies. Responses to public comments as well as summarized versions of the public comments are included in the Final EIS. Changes to the EIS made between Draft and Final were based on public comments and internal review. Meetings were held and coordination has been conducted with Harney County Commissioner, Oregon Department of Fish and Wildlife, U.S. Fish and Wildlife Service Malheur National Wildlife Refuge, U.S. Fish and Wildlife Service Ecological Services, Oregon Department of Environmental Quality, Eastern Oregon Agricultural Research Center, Burns Paiute Tribe, and Harney Soil and Water Conservation District.

Karla Bird,
Andrews Resource Area Field Manager.

[FR Doc. E7-16126 Filed 8-16-07; 8:45 am]

BILLING CODE 4310-33-P